DEPARTMENT OF HEALTH AND HUMAN SERVICES

Administration on Aging

2005 White House Conference on Aging Policy Committee

AGENCY: Administration on Aging, HHS.

ACTION: Notice of meeting.

SUMMARY: Pursuant to Section 10(a) of the Federal Advisory Committee Act as amended (5 U.S.C. Appendix 2), notice is hereby given of the eighth Policy Committee meeting concerning planning for the 2005 White House Conference on Aging. The meeting will be open to the public, with attendance limited to space available. Individuals who plan to attend and need special assistance, such as sign language interpretation or other reasonable accommodations, should inform the contact person listed below in advance of the meeting. This notice is being published less than 15 days prior to the meeting due to scheduling problems.

DATES: The meeting will be held Tuesday, October 25, 2005, from 1 p.m. to 4 p.m.

ADDRESSES: The meeting will be held in the Atrium Ballroom at The Washington Court Hotel, 525 New Jersey Avenue, NW., Washington, DC 20001-1527.

FOR FURTHER INFORMATION CONTACT: Kim Butcher at (301) 443-2887, or e-mail at http://www.Kim.Butcher@whcoa.gov. Registration is not required. Seating is on a first come, first-served basis.

SUPPLEMENTARY INFORMATION: Pursuant to the Older Americans Act Amendments of 2000 (Pub. L. 106-501, November 2000), the Policy Committee will meet to finalize discussions and planning, including a vote on the Annotated Agenda, for the 2005 WHCoA that will be held from December 11 through 14, 2005 at the Marriott Wardman Park Hotel in Washington, DC.

Dated: October 13, 2005.
Edwin L. Walker,
Deputy Assistant Secretary for Policy and Programs.

[FR Doc. 05-20834 Filed 10-17-05; 8:45 am]

BILLING CODE 4154-01-P